DEPARTMENT OF ENERGY

Federal Energy Regulatory Commission

Combined Notice of Filings #1

Take notice that the Commission received the following electric rate filings:

Docket Numbers: ER10-1920-001; ER10-1928-001; ER10-2720-001; ER10-1971-004.

Applicants: FPL Energy Oklahoma Wind, LLC, FPL Energy Sooner Wind, LLC, Minco Wind, LLC, NextEra Energy Power Marketing, LLC.

Description: NextEra Resources Entities Notification of Non-material Change in Status.

Filed Date: 12/8/11.

Accession Number: 20111208-5127.

Comments Due: 5 p.m. ET 12/29/11.

Docket Numbers: ER12-579-000.

Applicants: Nevada Power Company.

Description: Rate Schedule No. 48 Cancellation to be effective 2/7/2012.

Filed Date: 12/8/11.

Accession Number: 20111208-5106.

Comments Due: 5 p.m. ET 12/29/11.

Docket Numbers: ER12-580-000.

Applicants: Tampa Electric Company.

Description: Tampa Electric Company submits tariff filing per 35.13(a)(2)(iii: Amendment of Cost-Based Power Sales Tariff to be effective 12/10/2011.

Filed Date: 12/9/11.

Accession Number: 20111209-5065.

Comments Due: 5 p.m. ET 12/30/11.

Docket Numbers: ER12-581-000.

Applicants: Carolina Power & Light Company.

Description: Notice of Cancellation of Rate Schedule No. 179 of Carolina Power & Light Company.

Filed Date: 12/9/11.

Accession Number: 20111209-5107.

Comments Due: 5 p.m. ET 12/30/11.

Docket Numbers: ER12-582-000.

Applicants: Idaho Power Company.

Description: Idaho Power Company submits tariff filing per 35.13(a)(2)(iii: Idaho Power Reserve Energy Service Tariff to be effective 12/16/2011.

Filed Date: 12/9/11.

Accession Number: 20111209-5116.

Comments Due: 5 p.m. ET 12/30/11.

Docket Numbers: ER12-583-000.

Applicants: PacifiCorp.

Description: Cancellation of First Revised Service Agreement Nos. 358, 359, and 360 for Long-Term Firm Point-to-Point Transmission Service between PPM Energy, Inc and PacifiCorp.

Filed Date: 12/9/11.

Accession Number: 20111209-5158.

Comments Due: 5 p.m. ET 12/30/11.

Docket Numbers: ER12-584-000.

Applicants: Dayton Power and Light Company, Indianapolis Power & Light Company.

Description: Notices of Termination of Service Agreements by The Dayton Power and Light Company, et al.

Filed Date: 12/9/11.

Accession Number: 20111209-5173.

Comments Due: 5 p.m. ET 12/30/11.

Take notice that the Commission received the following electric securities filings:

Docket Numbers: ES12-8-000.

Applicants: Minco Wind Interconnection Services, LLC.

Description: Application of Minco Wind Interconnection Services, LLC for Blanket Authorization under FPA Section 204 and 18 CFR part 34.

Filed Date: 12/9/11.

Accession Number: 20111209-5147.

Comments Due: 5 p.m. ET 12/30/11.

Docket Numbers: ES12-9-000.

Applicants: National Grid USA.

Description: Supplemental Application of National Grid USA on Behalf of Certain of its Subsidiaries and Affiliates for Certain Authorizations under Section 204 of the Federal Power Act and Request for Shortened Comment Period.

Filed Date: 12/9/11.

Accession Number: 20111209-5186.

Comments Due: 5 p.m. ET 12/30/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2011.
Nathaniel J. Davis, Sr.,
Deputy Secretary.

[FR Doc. 2011-32404 Filed 12-16-11; 8:45 am]

BILLING CODE 6717-01-P